DEPARTMENT OF ENERGY

Federal Energy Regulatory Commission

Combined Notice of Filings #2

Take notice that the Commission received the following electric rate filings:

Docket Numbers: ER19-460-003.

Applicants: Southwest Power Pool, Inc.

Description: Compliance filing: Additional Information in ER19-460—Order No. 841 Compliance Filing to be effective N/A.

Filed Date: 5/1/19.

Accession Number: 20190501-5208.

Comments Due: 5 p.m. ET 5/22/19.

Docket Numbers: ER19-1376-001.

Applicants: Midcontinent Independent System Operator, Inc.

Description: Tariff Amendment: 2019-05-01_SA 3272 100 Mvar Switched Cap Bank at Montezuma 345 kV Sub MPFCA to be effective 3/20/2019.

Filed Date: 5/1/19.

Accession Number: 20190501-5269.

Comments Due: 5 p.m. ET 5/22/19.

Docket Numbers: ER19-1739-000.

Applicants: Dominion Energy South Carolina, Inc.

Description: § 205(d) Rate Filing: Cost Based Power Sales Tariff Name Change to be effective 3/30/2010.

Filed Date: 5/1/19.

Accession Number: 20190501-5002.

Comments Due: 5 p.m. ET 5/22/19.

Docket Numbers: ER19-1740-000.

Applicants: Pacific Gas and Electric Company.

Description: § 205(d) Rate Filing: TFA for Port of Stockton Tap-Line Reconductoring Project (TO SA 117) to be effective 5/2/2019.

Filed Date: 5/1/19.

Accession Number: 20190501-5004.

Comments Due: 5 p.m. ET 5/22/19.

Docket Numbers: ER19-1741-000.

Applicants: Dominion Energy South Carolina, Inc.

Description: § 205(d) Rate Filing: NMST Tariff Name Change to be effective 3/30/2010.

Filed Date: 5/1/19.

Accession Number: 20190501-5006.

Comments Due: 5 p.m. ET 5/22/19.

Docket Numbers: ER19-1742-000.

Applicants: Southern California Edison Company.

Description: § 205(d) Rate Filing: SCE Recollation of TO Tariff Filing 1 of 3 to be effective 5/1/2019.

Filed Date: 5/1/19.

Accession Number: 20190501-5008.

Comments Due: 5 p.m. ET 5/22/19.

Docket Numbers: ER19-1743-000.

Applicants: Southern California Edison Company.

Description: § 205(d) Rate Filing: SCE Recollation of TO Tariff Filing 3 of 3 to be effective 5/1/2019.

Filed Date: 5/1/19.

Accession Number: 20190501-5009.

Comments Due: 5 p.m. ET 5/22/19.

Docket Numbers: ER19-1744-000.

Applicants: Southern California Edison Company.

Description: § 205(d) Rate Filing: SCE Recollation of WDAT Filing 1 of 9 to be effective 5/1/2019.

Filed Date: 5/1/19.

Accession Number: 20190501-5010.

Comments Due: 5 p.m. ET 5/22/19.

Docket Numbers: ER19-1746-000.

Applicants: Southwest Power Pool, Inc.

Description: § 205(d) Rate Filing: 1139R6 Southwestern Public Service Company to be effective 4/1/2019.

Filed Date: 5/1/19.

Accession Number: 20190501-5020.

Comments Due: 5 p.m. ET 5/22/19.

Docket Numbers: ER19-1747-000.

Applicants: Southern California Edison Company.

Description: § 205(d) Rate Filing: SCE Recollation of WDAT Filing 6 of 9 to be effective 5/1/2019.

Filed Date: 5/1/19.

Accession Number: 20190501-5102.

Comments Due: 5 p.m. ET 5/22/19.

Docket Numbers: ER19-1748-000.

Applicants: Duke Energy Commercial Enterprises, Inc.

Description: Tariff Cancellation: Duke Energy Commerical Enterprises MBR Tariff Cancellation to be effective 7/1/2019.

Filed Date: 5/1/19.

Accession Number: 20190501-5167.

Comments Due: 5 p.m. ET 5/22/19.

Docket Numbers: ER19-1749-000.

Applicants: Duke Energy Florida, LLC.

Description: § 205(d) Rate Filing: DEF-Gulf Power Interconnection Agmt (RS No. 232) Cert. of Concurrence Filing to be effective 1/1/2019.

Filed Date: 5/1/19.

Accession Number: 20190501-5184.

Comments Due: 5 p.m. ET 5/22/19.

Docket Numbers: ER19-1750-000.

Applicants: Dominion Energy South Carolina, Inc.

Description: § 205(d) Rate Filing: Name Change to OATT and Correction to Attachment H to be effective 4/29/2019.

Filed Date: 5/1/19.

Accession Number: 20190501-5237.

Comments Due: 5 p.m. ET 5/22/19.

Docket Numbers: ER19-1751-000.

Applicants: Southern California Edison Company.

Description: § 205(d) Rate Filing: SCE Recollation of WDAT Filing 2 of 9 to be effective 5/1/2019.

Filed Date: 5/1/19.

Accession Number: 20190501-5259.

Comments Due: 5 p.m. ET 5/22/19.

Docket Numbers: ER19-1752-000.

Applicants: Southern California Edison Company.

Description: § 205(d) Rate Filing: SCE Recollation of WDAT Filing 3 of 9 to be effective 5/1/2019.

Filed Date: 5/1/19.

Accession Number: 20190501-5300.

Comments Due: 5 p.m. ET 5/22/19.

Docket Numbers: ER19-1753-000.

Applicants: Southern California Edison Company.

Description: § 205(d) Rate Filing: SCE Recollation of WDAT Filing 4 of 9 to be effective 5/1/2019.

Filed Date: 5/1/19.

Accession Number: 20190501-5292.

Comments Due: 5 p.m. ET 5/22/19.

Docket Numbers: ER19-1754-000.

Applicants: Midcontinent Independent System Operator, Inc., Ameren Illinois Company.

Description: § 205(d) Rate Filing: 2019-05-01_Ameren-Norris Electric Wholesale Connection and Umbrella Construction to be effective 5/1/2019.

Filed Date: 5/1/19.

Accession Number: 20190501-5314.

Comments Due: 5 p.m. ET 5/22/19.

Take notice that the Commission received the following electric securities filings:

Docket Numbers: ES19-28-000.

Applicants: Entergy New Orleans, LLC.

Description: Application under Section 204 of the Federal Power Act for Authorization to Issue Securities, et al. of Entergy New Orleans, LLC.

Filed Date: 4/30/19.

Accession Number: 20190430-5531.

Comments Due: 5 p.m. ET 5/21/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2019.
Kimberly D. Bose,
Secretary.

[FR Doc. 2019-09286 Filed 5-6-19; 8:45 am]

BILLING CODE 6717-01-P